INTERNATIONAL TRADE COMMISSION

[Investigation No. 731-TA-539-C (Fourth Review)]

Uranium From Russia; Determination

On the basis of the record ¹ developed in the subject five-year review, the United States International Trade Commission (“Commission”) determines, pursuant to the Tariff Act of 1930 (“the Act”), that termination of the suspended investigation covering uranium from Russia would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on February 1, 2017 (82 FR 8951) and determined on May 8, 2017 that it would conduct an expedited review (82 FR 27287, June 14, 2017).

The Commission made this determination pursuant to section 751(c) of the Act (19 U.S.C. 1675(c)). It completed and filed its determination in this review on September 20, 2017. The views of the Commission are contained in USITC Publication 4727 (September 2017), entitled Uranium from Russia: Investigation No. 731-TA-539-C (Fourth Review).

By order of the Commission.
Issued: September 20, 2017.
Lisa R. Barton,
Secretary to the Commission.

[FR Doc. 2017-20502 Filed 9-25-17; 8:45 am]

BILLING CODE 7020-02-P